DEPARTMENT OF JUSTICE

Antitrust Division

Notice Pursuant to the National Cooperative Research and Production Act of 1993—Open Mobile Alliance

Notice is hereby given that, on July 13, 2006, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, Ammeon, Dublin, Ireland; BDR Customer Management Ltd., Wooburn Green, Buckinghamshire, United Kingdom; Bharti Telesoft Ltd., New Delhi, India; Bridgewater Systems Corporation, Ottawa, Ontario, Canada; Brogent Technologies Inc., Neihu District, Taipei, Taiwan; CommWyse A/S, Lyngby, Denmark; Credant Technologies, Addison, TX; Dai Nippon Printing Co., Ltd., Shinjuku-ku, Tokyo, Japan; Datang Mobile Communications Equipment Co., Ltd., Haidian District, Beijing, People's Republic of China; DISYS Co., Ltd., Buk-Gu, Daegu City, Republic of Korea; Flextronics Electronics Technology Co., Ltd., Haidian District, Beijing, People's Republic of China; Flextronics Software Systems, Gurgaon, India; Freescale Semiconductor Inc., Austin, TX; Geotel Corporation, Gangnam-gu, Seoul, Republic of Korea; iAnywhere Solutions Inc., Corvalis, OR; I'M Technologies Ltd., The Signature, Singapore; Incony AG, Paderborn, Germany; inLive Interactive Ltd., Ra'anana, Israel; International Institute of Telecommunications, Montreal, Quebec, Canada; JRD Communication Inc., Shanghai, People's Republic of China; Majitek Pty Ltd., Melbourne, Australia; Mitsubishi Electric Corporation, Amagaski-city, Hyogo, Japan; MobiComp, Braga, Portugal; Mobitel, d.d., Ljubljana, Slovenia; Nemerix, Cambridge, United Kingdom; Norbelle, LLC, Rancho Palos Verdes, CA; NTT Advanced Technology Corp., Musashino-shi, Tokyo, Japan; One Media Planet Ltd., Beijing, People's Republic of China; Prodyne Technologies Inc., St. Catharines, Ontario, Canada; Quarknetsoft Co., Ltd., Haidian District, Beijing, People's Republic of China; Radiant Technologies, Inc., Gangham-gu, Seoul, Republic of Korea; SDC AG, Basel, Switzerland; SecureMedia, Natick, MA; Softfront, Minato-ku, Tokyo, Japan; Soundbuzz Pte Ltd., Singapore, Singapore; STROM telecom s.r.o., Dobredovice, Czech Republic; Symantec Corporation, Colorado Springs, CO; Synapse Mobile Networks s.a., Mamer, Luxembourg, Sweden; Techfaith Wireless Communication Technology Ltd., Chao Yang District, Beijing, People's Republic of China; Telecom Italia S.p.A, Torino, Italy; Telstra Corporation Limited, Melbourne, Australia; Trafficland Ltd., Moscow, Russia; and US Cellular, Chicago, IL have been added as parties to this venture.

Also, 3G Club, Taipei, Taiwan; Amplefuture Ltd., London, United Kingdom; Anam Wireless Internet Solutions Limited, Dublin, Ireland; Arasan Chip Systems Inc., San Jose, CA; ATI Technologies Inc., Markham, Ontario, Canada; Atsana Semiconductor, Ottawa, Ontario, Canada; auto TOOLS Group Co., Ltd., Taipei, Taiwan, BorderWare Technologies Inc., Hsinchu, Taiwan; CellVision AS, Lysaker, Norway; China Telecommunications Corporation, Xicheng District, Beijing, People's Republic of China; Computer Associates, Islandia, NY; Contec Innovations Inc., Port Coquitlam, British Columbia, Canada; Coretrust, Inc., Gangnam-gu, Seoul, Republic of Korea; Cryptico A/S, Copenhagen, Denmark; Dascom Technology, Haidian District, Beijing, People's Republic of China; Eigel-Danielson, Monument, CO; Elcoteq Network Corporation, Salo, Finland; Exit Games GmbH, Hamburg, Germany; Extended Systems, Boise, ID; Finnish Communications Regulatory Authority, Helsinki, Finland; Greentube I.E.S. AG, Vienna, Austria; Groove Mobile, Inc., Andover, MA; Hotsip AB, Stockholm, Sweden; Ind-TeleSoft Private Limited, Koramangala, Bangalore, India; InforSpace, Inc., Bellevue, WA; Inka Networks, Seoul, Republic of Korea; Intellipaxx, Saarburcken, Germany; Intellisync, San Jose, CA; InterGrafx, Los Altos, CA; IXI Mobile, Inc., Rewood City, CA; Kayak Interactive, Princeton, NJ; Larsen & Toubro Infotech Ltd., Maharastra, India; LightSurf Technologies, Inc., Santa Cruz, CA; Macromedia, Inc., San Francisco, CA; Macrospace Limited, London, United Kingdom; Maptel Networks, S.A.U., Madrid, Spain; MasterCard International Inc., Purchase, NY; Matchtip Limited, Mayfair, London, United Kingdom; Materna GmbH Information & Communication, Dortmund, Germany; Melco Mobile Communications Europe, Nantere Cedex, France; MessageVine, Inc., San Francisco, CA; Miengine Corp., Daechi-dong, Seoul, Republic of Korea; Mobeon, Sundsvall, Sweden; MobileSoft Technology Co., Ltd., Nanjing, People's Republic of China; MobileTop Co., Ltd., Seoul, Republic of Korea; Mobivillage, Marseille, France; M-Systems Flash Disk Pioneers, Kfar Saba, Israel; Musiwave, Paris, France; Next Com KK, Chiyodaku, Tokyo, Japan; NS Solutions Corporation, Tokyo, Japan; Oksijen Teknoloji, Istanbul, Turkey; Opera Software ASA, Oslo, Norway; ORGA Kartensysteme GmbH, Paderhorn, Germany; PalmSource, Inc., Sunnyvale, CA; Pixel Technologies, Tel Aviv, Israel; Pollex Mobile Software Co., Ltd., Haidian District, Beijing, People's Republic of China; PrismTech, Gateshead, United Kingdom; Proximus, Brussels, Belgium; Purple Labs, Le Bourget du Lac, France; RAS Security, Bedford, MA; Ruksun Software Technologies Pvt. Ltd., Pune, India; SDR Forum, Denver, CO; Setec Oy, Vantaa, Finland; SiRF Technology, Inc., Irvine, CA; SKC&C, Seongnam-si, Gyeonggi-do, Republic of Korea; Sky Co., Ltd., Osaka, Japan; Sofor Oy, Kauhava, Finland; Solid Information Technology, Helsinki, Finland; Sonus Networks, Chelmsford, MA; Spansion, Sunnyvale, CA; Symbol Technologies, Inc., San Jose, CA; Synergenix Interactive AB, Solna, Sweden; Telecom Italia Mobile, Rome, Italy; Thin Multimedia, Inc., Seocho-ku, Seoul, Republic of Korea; T-Online International AG, Darmstadt, Germany; TUV Product Service Ltd., Fareham, Hampshire, United Kingdom; University of Wollongong, Wollongong, Austria; UTStarcom, Inc., Alameda, CA; VTT Information Technology, Espoo, Finland; Waterford Institute of Technology, Wateford, Ireland; XandMail, Paris, France; Xiamen Scan Technology Co., Ltd., Xiamen, People's Republic of China; and Yomi PLC, Rovaniemi, Finland have withdrawn as parties to this venture.

The following members have changed their names: End2End Mobile has changed its name to End2End VAS APS, Aalborg SV, Denmark; MTIS Co., Ltd. has changed its name to Huone Inc., Daegu, Republic of Korea; Melco Mobile has changed its name to Mitsubishi Electric Corporation, Tokyo, Japan; Dittosoft Inc. has changed its name to Mobilus, Inc., Daegu, Republic of Korea; ipNetfusion has changed its name to NetHawk Corporation, Richardson, TX; DMDsecure has changed its name to SafeNet, Inc., Belcamp, MD; and Xiam Limited has changed its name to Xiam Technologies Ltd., Dublin, Ireland.

No other changes have been made in either the membership or planned activity of the group research project. Membership in this group research project remains open, and OMA intends to file additional written notification disclosing all changes in membership.

On March 18, 1998, OMA filed its original notification pursuant to Section 6(a) of the Act. The Department of Justice published a notice in the Federal Register pursuant to Section 6(b) of the Act on December 31, 1998 (63 FR 72333).

The last notification was field with the Department on January 25, 2006. A notice was published in the Federal Register pursuant to Section 6(b) of the Act on February 16, 2006 (71 FR 8312).

Patricia A. Brink,
Deputy Director of Operations, Antitrust Division.

[FR Doc. 06-6781 Filed 8-8-06; 8:45 am]

BILLING CODE 4410-11-M